DEPARTMENT OF VETERANS AFFAIRS

[OMB Control No. 2900-0750]

Agency Information Collection (Ethics Consultation Feedback Tool (ECFT)) Activity Under OMB Review

AGENCY: Veterans Health Administration, Department of Veterans Affairs.

ACTION: Notice.

SUMMARY: In compliance with the Paperwork Reduction Act (PRA) of 1995 (44 U.S.C. 3501-21), this notice announces that the Veterans Health Administration, Department of Veterans Affairs, will submit the collection of information abstracted below to the Office of Management and Budget (OMB) for review and comment. The PRA submission describes the nature of the information collection and its expected cost and burden and includes the actual data collection instrument.

DATES: Comments must be submitted on or before September 12, 2013.

ADDRESSES: Submit written comments on the collection of information through www.Regulations.gov; or to VA's OMB Desk Officer, OMB Human Resources and Housing Branch, New Executive Office Building, Room 10235, Washington, DC 20503 (202) 395-7316. Please refer to “OMB Control No. 2900-0750” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0750”.

SUPPLEMENTARY INFORMATION:

Title: Ethics Consultation Feedback Tool (ECFT), VA Form 10-10065.

OMB Control Number: 2900-0750.

Type of Review: Revision of an approved collection.

Abstract: VA Form number 10-0502 has been replaced with VA Form number 10-0065. None of the information requested has changed. VA Form 10-10065 will be used to collect data from patients and family members about their experience during the Ethics Consultation Service. VA will be used the data to improve the process of ethics consultation (i.e., how ethics consultation is being performed) as well as its outcomes (i.e., how ethics consultation affects participants and the facility.

An agency may not conduct or sponsor, and a person is not required to respond to a collection of information unless it displays a currently valid OMB control number. The Federal Register Notice with a 60-day comment period soliciting comments on this collection of information was published on April 25, 2013, on page 24469.

Affected Public: Individuals or households.

Estimated Annual Burden: 17.

Estimated Average Burden Per Respondent: 5 minutes.

Frequency of Response: On occasion.

Estimated Number of Respondents: 204.

Dated: August 8, 2013.
By direction of the Secretary.
Crystal Rennie,
VA Clearance Officer, U.S. Department of Veterans Affairs.

[FR Doc. 2013-19537 Filed 8-12-13; 8:45 am]

BILLING CODE 8320-01-P